DEPARTMENT OF HEALTH AND HUMAN SERVICES

National Institutes of Health

National Institute of Mental Health; Notice of Meeting

Pursuant to section 10(a) of the Federal Advisory Committee Act, as amended (5 U.S.C. App.), notice is hereby given of a conference call of the Interagency Autism Coordinating Committee (IACC).

The IACC Full Committee will have a conference call meeting on Tuesday, March 19, 2013. The committee will discuss public comment, emerging issues, and future committee activities. The conference call will be publicly accessible in listen-only mode.

Name of Committee: Interagency Autism Coordinating Committee (IACC).

Type of meeting: Conference Call.

Date: March 19, 2013.

Time: 10:00 a.m. to 11:30 a.m. *Eastern Time*—Approximate end time.

Agenda: To discuss public comment, emerging issues, and future committee activities.

Written Public Comments: Due by 5:00 p.m. ET on Tuesday, March 12, 2013.

Place: Conference call only; No in-person meeting.

Conference Call: Dial: 888-790-3414; Access code: 3436665.

Cost: The conference call is free.

Contact Person: Ms. Lina Perez, Office of Autism Research Coordination, National Institute of Mental Health, NIH, 6001 Executive Boulevard, NSC, Room 6182A, Rockville, MD 20852, Phone: (301) 443-6040, Email: IACCPublicInquiries@mail.nih.gov.

Please Note: The conference call will be open to the public in listen-only mode. Members of the public who participate using the conference call phone number will be able to listen to the meeting but will not be heard. If you experience any technical problems with the conference call, please-email iacchelpdesk2012@gmail.com or call the IACC Technical Support Help Line at 301-339-3840.

Written Public Comments: Written public comments may be submitted to the postal or email address above by 5:00 p.m. ET on Tuesday, March 12, 2013.

Accommodations Statement: Individuals who participate by using this conference call service and who need special assistance such as captioning or other reasonable accommodations should submit a request to the Contact Person listed on this notice at least 5 days prior to the meeting.

Schedule subject to change.

Information about the IACC and a registration link for this meeting are available on the Web site: www.iacc.hhs.gov.

Dated: February 22, 2013.
Carolyn A. Baum,
Program Analyst, Office of Federal Advisory Committee Policy .

[FR Doc. 2013-04580 Filed 2-27-13; 8:45 am]

BILLING CODE 4140-01-P